DEPARTMENT OF AGRICULTURE

Economic Research Service

Notice of Intent To Seek Approval to Collect Information

AGENCY: Economic Research Service, USDA.

ACTION: Notice and request for comments.

SUMMARY: In accordance with the Paperwork Reduction Act of 1995 (Pub. L. No. 104-13) and Office of Management and Budget (OMB) regulations at 5 CFR 1320 (60 FR 44978, August 29, 1995), this notice announces the Economic Research Service's (ERS) intention to request approval for a new information collection from participants in the Special Supplemental Nutrition Program for Women, Infants and Children (WIC); from local WIC agency staff; and from food store cashiers, to address the legislative mandate in the William F. Goodling Child Nutrition Reauthorization Act of 1998 ( Pub. L. 105-336, 112 Stat. 3143) to study the impact of cost containment in the WIC program. This information will be used in the Assessment of WIC Cost-Containment Practices to analyze the effects of current cost-containment practices established by States on program participation, selected participant outcomes, and program costs.

DATES: Written comments on this notice must be received by September 1, 2000 to be assured of consideration.

ADDITIONAL INFORMATION OR COMMENTS: Requests for additional information should be directed to Phil R. Kaufman, Food Markets Branch, Food and Rural Economics Division, Economic Research Service, U.S. Department of Agriculture, 1800 M. St., NW, Room N2118, Washington, D.C. 20036-5801. For further information contact: Phil R. Kaufman, 202-694-5376. Submit electronic comments to pkaufman@ers.usda.gov.

SUPPLEMENTARY INFORMATION: Title: Paperwork Reduction Act Submission (OMB-83-1).

Type of Request: New collection of information.

Abstract: ERS of the U.S. Department of Agriculture is responsible for conducting studies and evaluations of the Nation's food assistance programs that are administered by the Food and Nutrition Service (FNS), U.S. Department of Agriculture. WIC is the second largest domestic food-assistance program in the United States. In Federal fiscal year 1998, WIC served approximately 7.4 million participants each month at an annual cost approaching $4 billion (FNS, 1998). WIC is administered through grants to the 50 states, the District of Columbia, Puerto Rico, Guam, American Samoa, the American Virgin Islands, and 33 Indian Tribal Organizations. State WIC agencies administer the program through roughly 2,000 local agencies representing about 10,000 service delivery sites.

WIC provides a comprehensive set of services including supplemental foods, nutrition education, and increased access to health care and social services for pregnant, breastfeeding, and postpartum women; infants; and children up to the age of five years. To qualify for WIC, a health or nutritional risk must be documented by a health professional and participants must be income-eligible.

WIC is not an entitlement program. Each State must operate within annual funding levels established via a formula devised by FNS to distribute funds appropriated by the Congress. This necessitates setting a maximum caseload for each local agency. When a local agency reaches this maximum, a system of priorities is used to allocate benefits to eligible applicants. As a consequence, WIC officials seek to contain program costs, particularly food costs, so that they can serve the maximum feasible number of eligible persons with the available funds. Cost-containment strategies employed by State WIC agencies fall into three main categories:

—Restricting the size, brand, and price range of food items that participants can buy with WIC benefits;

—Restricting the number and/or types of approved WIC vendors (food stores); and

—Purchasing food items with manufacturer rebates.

Currently, all State agencies are required to buy infant formula under rebate contracts and are strongly encouraged by FNS to employ practices intended to reduce other costs of food benefits for women and children. By design, the planned study will not examine infant formula rebates. By reducing food costs, cost-containment practices have the potential to increase the number of eligible women, infants and children served by WIC. Concerns have been raised, however, that overly restrictive policies may reduce participants' access to and consumption of prescribed foods, and may ultimately lead to reduced participation and adverse health impacts. In addition, some observers have questioned whether cost-containment practices save enough in food costs to offset their additional administrative costs.

As mandated by the William F. Goodling Child Nutrition Reauthorization Act of 1998, ERS is conducting a study to describe and assess the effects of these practices on seven outcomes: (1) Program participation; (2) access and availability of prescribed foods; (3) voucher redemption rates and actual food selections by participants; (4) participants on special diets or with specific food allergies; (5) participant use and satisfaction of prescribed foods; (6) achievement of positive health outcomes; and (7) program costs. Pub. L. 105-336, Sec. 203(r), 112 Stat. 3143, 3166. This study will provide the first systematic data on the balance struck by WIC State agencies between the goals of nutritional improvement and customer satisfaction and the need to make the most of available program funds.

The study is being conducted in six States: California, Connecticut, North Carolina, Ohio, Oklahoma, and Texas. These States were purposively selected and recruited to participate because of their use of specific combinations of the main types of cost-containment practices and to represent diversity in geographical location, size, and race/ethnicity of WIC participants. This selection method is appropriate because of the need for State cooperation and because the study is intended to explore the possibility that WIC cost-containment practices have significant impacts on participants and program costs, not to provide definitive, nationally-representative impact estimates.

ERS, working with Abt Associates, Inc., who will collect the information, will draw on several data sources in each of the six participating States. Maximum use will be made of existing data in State WIC information systems, including participant certification records, food instrument issuance and redemption records, and vendor locations and characteristics. These data will be used to construct sample frames for a survey of WIC participants, a survey of WIC vendors, and focus groups with WIC participants who do not pick up all of their WIC food vouchers, as well as in the analyses of outcomes. A second existing information source is supermarket scanner data, which will provide information on WIC transactions (such as brand and size of food products selected) for a subset of WIC-approved vendors within each State. Finally, electronic benefit transfer (EBT) transaction data will provide similar information for WIC transactions in Ohio, the only selected State that will be using EBT to process WIC transactions during the study period.

The remaining data sources, for which OMB clearance will be needed, are a survey of WIC participants, a screener survey to recruit WIC participants for focus groups, a survey of WIC food availability and prices, and interviews with WIC staff. The Survey of WIC Participants is a telephone survey of active WIC recipients in each of the six participating States, with field follow-up. The survey will be administered to a random sample of recipients selected by a two-stage process. In each State, three study sites will be selected, one from each stratum defined by urban, suburban, and rural areas. WIC participants will then be randomly selected from a list of all participants residing in the study sites, stratified by women and children.

The Survey of WIC Participants will collect information relevant to all study objectives including: access to WIC vendors; food item selections and food consumption; satisfaction with WIC food items; food preferences; food selection problems associated with special diets or food allergies; use of health services; and selected participant demographics not available from State WIC records. Cross-state analyses will compare responses of participants from States implementing one or more types of cost-containment practice to responses of participants from States who are not using the same (or any) practices to determine whether there are any systematic differences in the relevant outcome measures. Within-state analyses will focus on a comparison of responses from those participants who are and are not constrained by cost-containment practices. Finally, responses of participants with special diets or food allergies will be examined to determine the extent to which they may have greater problems associated with cost-containment than other participants.

To explore the possible effects of cost containment on participant drop-out rates, the study will use State information systems data to identify those WIC participants who have failed to pick up one or more of their monthly food package instruments. A screening interview will be used to select those participants whose decision not to pick up their food instruments may have been affected by cost-containment practices. Focus groups with these WIC participants will take place in each participating State.

The Survey of Food Prices and Item Availability will be a major data source for estimating cost savings due to cost-containment practices; it also provides information on both the variety of WIC foods offered and shelf availability. Abt Associates data collectors will obtain information on food items normally stocked by asking store cashiers to scan a set of UPC (Universal Product Code) codes for a standard list of foods meeting Federal WIC guidelines. Stores will be sampled from among all WIC-authorized vendors in the study sites selected for the Survey of WIC Participants; stores will be stratified by store type (supermarket vs. grocery store), size, and WIC vs. non-WIC status. In States with vendor restrictions, non-WIC vendors will also be sampled and surveyed. In States with vendor restriction practices, food prices and availability will be compared between WIC vendors and non-WIC vendors. In States with item restriction practices, food prices and availability will be compared between WIC-approved food items and non-WIC approved foods that meet Federal guidelines.

Finally, State and local WIC officials in each of the participating States will be interviewed about the expenses of implementing cost containment, the extent to which savings have been used to increase participation, and other impacts on program operations. Interviews with the six State WIC directors will be conducted in person. The director of each selected local agency and other staff with key responsibilities related to cost containment will also be interviewed; these interviews will be conducted by telephone. The information collected from State and local WIC staff is essential for evaluating the effects of cost-containment practices on program participation and costs.

The above-mentioned information collection is needed to complete the Assessment of WIC Cost-Containment Practices mandated by Congress and to equip FNS and State WIC administrators with a comprehensive understanding of the potential impacts of cost containment as they make decisions in the future regarding the implementation of these practices. No existing data source can provide all of the information needed to complete the evaluation. Existing WIC information system databases from the six States will be used to construct the survey sample frames and to obtain demographic data on participants and WIC vendors affected by cost containment. Computer-assisted telephone interviewing will be used to minimize respondent burden and interviewer error in the Survey of WIC Participants. Focus group samples will be drawn from a limited geographic area to minimize travel time and expense for focus group participants. The survey questionnaire and screener and local agency interviews will be kept as simple and respondent-friendly as possible. Responses are voluntary and confidential. Survey and interview data will be combined with other data for statistical purposes and reported only in aggregate or statistical form.

Estimate of Burden: Public reporting burden for this data collection is estimated to vary by the type of respondent. Responses to the Survey of WIC participants are estimated to average 30 minutes. Responses from WIC participants who did not pick up their WIC vouchers are estimated at 5 minutes, on average, for a screening interview and an average of 90 minutes for the focus group session. The Survey of Food Prices will involve an estimated 15 minutes of time from the store cashier for scanning. Responses by local agency WIC staff are estimated to total 60 minutes, on average. The estimates include time for listening to instructions, gathering data needed, and responding to questionnaire or interview/discussion items.

Respondents: Participants in the local WIC agency staff, and WIC-authorized food store cashiers in six selected States.

Estimated Number of Respondents: 2,052 in total: 1,200 active WIC participants, 600 WIC participants who failed to pick up their vouchers, 72 WIC participants for focus groups, 18 local WIC agency staff, and 162 food store cashiers.

Estimated Total Annual Burden on Respondents: Total of 816.5 hours. Survey of WIC Participants: 600 hours, Screener Survey for Focus Groups: 50 hours, Focus Groups: 108 hours, Local Agency Interview: 18 hours, and Survey of Food Prices and Item Availability: 40.5 hours. Copies of the information to be collected can be obtained from Phil R. Kaufman, Food Markets Branch, Food and Rural Economics Division, Economic Research Service, U.S. Department of Agriculture, 1800 M. St., NW, Room N2118, Washington, D.C. 20036-5801, 202-694-5376.

Comments

Comments are invited on: (a) Whether the proposed collection of information is necessary for the proper performance of the functions of the Department, including whether the information will have practical utility; (b) the accuracy of the Agency's estimate of the burden of the proposed collection of information, including the validity of the methodology and assumptions used; (c) ways to enhance the quality, utility, and clarity of the information to be collected; (d) ways to minimize the burden of the collection of information on those who are to respond, such as through the use of appropriate automated, electronic, mechanical, or other technological collection techniques or other forms of information technology. Comments should be sent to the address stated in the preamble. All responses to this notice will be considered and included in the request for OMB approval. All comments will also become a matter of public record.

Dated: June 22, 2000.
Betsey Kuhn,
Director, Food and Rural Economics Division.

[FR Doc. 00-16255 Filed 6-27-00; 8:45 am]

BILLING CODE 3410-18-P